DEPARTMENT OF THE INTERIOR

Bureau of Land Management

[LLAZ9120000.L12200000.AL00006100 241A]

Notice of Reestablishment of Arizona Resource Advisory Council

AGENCY: Bureau of Land Management, Interior.

ACTION: Notice of Reestablishment of Arizona Resource Advisory Council.

SUMMARY: Notice is hereby given that the Secretary of the Interior (Secretary) has reestablished the Bureau of Land Management (BLM) Resource Advisory Council for the state of Arizona.

FOR FURTHER INFORMATION CONTACT: Allison Sandoval, Legislative Affairs and Correspondence (600), Bureau of Land Management, 1620 L Street, NW., MS-LS-401, Washington, DC 20036, telephone (202) 912-7434.

SUPPLEMENTARY INFORMATION: This notice is published in accordance with Section 9(a)(2) of the Federal Advisory Committee Act of 1972, Public Law 92-463. The BLM has re-established the Arizona Advisory Council.

CERTIFICATION STATEMENT: I hereby certify that the reestablishment of the BLM Resource Advisory Councils is necessary and in the public interest in connection with the Secretary's responsibilities to manage the lands, resources, and facilities administered by the BLM.

Ken Salazar,
Secretary of the Interior.

[FR Doc. E9-28186 Filed 11-23-09; 8:45 am]

BILLING CODE 4310-32-P